DEPARTMENT OF COMMERCE

National Oceanic and Atmospheric Administration

50 CFR Part 648

[Docket No. 181203999-9503-02]

RTID 0648-XA848

Fisheries of the Northeastern United States; Northeast Multispecies Fishery; Possession and Trip Limit Increases for the Common Pool Fishery

AGENCY: National Marine Fisheries Service (NMFS), National Oceanic and Atmospheric Administration (NOAA), Commerce.

ACTION: Temporary rule; inseason adjustment.

SUMMARY: This action increases the possession and trip limits of Georges Bank cod, Gulf of Maine cod, Gulf of Maine haddock, Southern New England/Mid-Atlantic winter flounder, American plaice, and witch flounder for Northeast multispecies common pool vessels for the remainder of the 2020 fishing year. This action will provide the common pool fishery greater opportunity to harvest, but not exceed, the annual quotas for these stocks.

DATES: These possession and trip limit adjustments are effective March 11, 2021, through April 30, 2021.

FOR FURTHER INFORMATION CONTACT: Spencer Talmage, Fishery Management Specialist, 978-281-9232.

SUPPLEMENTARY INFORMATION: The regulations at § 648.86(o) authorize the Regional Administrator to adjust the possession and trip limits for common pool vessels in order to help avoid overharvest or underharvest of the common pool quotas.

Based on the most recent catch information, the common pool fishery has caught low amounts of the following species relative to the annual quotas for each of these stocks (Table 1): Georges Bank (GB) cod; Gulf of Maine (GOM) cod; GOM haddock; Southern New England/Mid-Atlantic (SNE/MA) winter flounder; American plaice; and witch flounder. At the current rate of fishing, we project that the common pool fishery will not fully harvest the annual quotas for these stocks by the end of fishing year 2020. Providing vessels an opportunity to possess and land greater amounts of catch should provide greater incentive to fish and more opportunity to catch available quota. Based on our review of past fishing effort and performance under various possession and trip limits, we project that this action's increases in the possession and trip limits for these stocks should provide additional fishing opportunities and flexibility to catch available quota while ensuring that the common pool does not exceed its annual quotas.

Table 1—Summary of Common Pool Catch Through January 26, 2021
Stock | FY 2020 catch (mt) | Sub-ACL (mt) | Percent caught
GB cod | 2.7 | 31.4 | 8.5
GOM cod | 2.3 | 8.7 | 25.8
GOM haddock | 30.5 | 303.1 | 10
SNE/MA winter flounder | 7.2 | 63.4 | 11.4
American plaice | 1.6 | 77.9 | 2.0
Witch flounder | 1.2 | 35.4 | 3.3

Effective March 11, 2021 until April 30, 2021, NMFS increases the possession and trip limits summarized in Tables 2 and 3.

Table 2—Previous Fishing Year 2020 Possession and Trip Limits
Stock | A days-at-sea (DAS) | Handgear A | Handgear B | Small vessel category
GB cod | 250 lb (113.4 kg) per DAS, up to 500 lb (226.8 kg) per trip | 250 lb (113.4 kg) per trip | 25 lb (11.3 kg) per trip | 250 lb (113.4 kg) per trip.
GOM cod | 50 lb (22.7 kg) per DAS, up to 100 lb (45.4 kg) per trip | 50 lb (22.7 kg) per trip | 25 lb (11.3 kg) per trip | 50 lb (22.7 kg) per trip.
GOM haddock | 1,000 lb (453.6 kg) per DAS, up to 2,000 lb (907.2 kg) per trip | 1,000 lb (453.6 kg) per trip |  | 300 lb (136.1 kg) per trip.
SNE/MA winter flounder | 2,000 lb (907.2 kg) per DAS, up to 4,000 lb (1,814.4 kg) per trip | 2,000 lb (907.2 kg) per trip.
American plaice | 1,000 lb (453.6 kg) per DAS, up to 2,000 lb (907.2 kg) per trip | 1,000 lb (453.6 kg) per trip.
Witch flounder | 750 lb (340.2 kg) per trip.

Table 3—New Fishing Year 2020 Possession and Trip Limits
Stock | A days-at-sea (DAS) | Handgear A | Handgear B | Small vessel category
GB cod | 500 lb (226.8 kg) per DAS, up to 1,000 lb (453.6 kg) per trip | 500 lb (226.8 kg) per trip | 25 lb (11.3 kg) per trip | 300 lb (136.1 kg) per trip.
GOM cod | 150 lb (68.0 kg) per DAS, up to 300 lb (136.1 kg) per trip | 150 lb (68.0 kg) per trip | 25 lb (11.3 kg) per trip | 150 lb (68.0 kg) per trip.
GOM haddock | 3,000 lb (1360.8 kg) per DAS, up to 6,000 lb (2721.6 kg) per trip | 3,000 lb (1360.8 kg) per trip |  | 300 lb (136.1 kg) per trip.
SNE/MA winter flounder | 3,000 lb (1360.8 kg) per DAS, up to 6,000 lb (2721.6 kg) per trip | 3,000 lb (1360.8 kg) per trip.
American plaice | 3,000 lb (1360.8 kg) per DAS, up to 6,000 lb (2721.6 kg) per trip | 3,000 lb (1360.8 kg) per trip.
Witch flounder | 1,500 lb (680.4 kg) per trip.

Weekly quota monitoring reports for the common pool fishery can be found on our website at: http://www.greateratlantic.fisheries.noaa.gov/ro/fso/MultiMonReports.htm. We will continue to monitor common pool catch through vessel trip reports, dealer-reported landings, Vessel Monitoring System catch reports, and other available information and, if necessary, we will make additional adjustments to common pool management measures.

Classification

NMFS issues this action pursuant to section 305(d) of the Magnuson-Stevens Act. This action is required by 50 CFR 648.86(o), which was issued pursuant to section 304(b), and is exempt from review under Executive Order 12866. The Assistant Administrator for Fisheries, NOAA, finds good cause pursuant to 5 U.S.C. 553(b)(B) and 5 U.S.C. 553(d)(3) to waive prior notice and the opportunity for public comment and the 30-day delayed effectiveness period because this action relieves possession and landing restrictions, and delayed implementation would be impracticable and contrary to the public interest.

The regulations at § 648.86(o) authorize the Regional Administrator to adjust the possession and trip limits for common pool vessels in order to help avoid overharvest or underharvest of the common pool quotas. Our analysis indicates that this action's increased possession and trip limit adjustments for these stocks should help the fishery achieve the optimum yields (OY) for each stock. Any delay in this action would limit the benefits to common pool vessels that the increased landing and possession limits are intended to provide.

The time necessary to provide for prior notice and comment, and a 30-day delay in effectiveness, would keep NMFS from implementing the necessary possession and trip limit before the end of the fishing year on April 30, 2021, which could prevent the fishery from achieving OY and cause negative economic impacts to the common pool fishery. This would undermine management objectives of the Northeast Multispecies Fishery Management Plan and cause unnecessary negative economic impacts to the common pool fishery. The public received prior notice and an opportunity to comment on the Regional Administrator's exercise of this authority. The fishing industry participants have experienced these adjustments and have become accustomed to this process. There is additional good cause to waive the delayed effective period because this action relieves restrictions on fishing vessels by increasing a trip limit.

Authority: 16 U.S.C. 1801 et seq.

Dated: March 8, 2021.
Jennifer M. Wallace,
Acting Director, Office of Sustainable Fisheries, National Marine Fisheries Service.

[FR Doc. 2021-05110 Filed 3-10-21; 8:45 am]

BILLING CODE 3510-22-P